DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of September 2005.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.)(increased imports) and (a)(2)(B)(II.B) (No shift in production to a foreign country) have not been met.

TA-W-57,707; Guardian Manufacturing Co., a subsidiary of J.P. Industries, Willard, OH

TA-W-57,522; ExxonMobil Chemical Co., Films Div., a division of Exxon Mobil Corporation, Stratford, CT

TA-W-57,553; Merix Corporation, Forest Grove, OR

TA-W-57,569; Tescom Corp., Elk River, MN

TA-W-57,573; Xiotech Corp., Eden Prairie, MN

TA-W-57,542; Cray, Inc., Manufacturing Div., Chippewa Falls, WI

TA-W-57,733; HBC Barge, LLC, Brownsville, PA

TA-W-57,597; T.S. Manufacturing, Inc., a subsidiary of Olson Technology, Inc., Atwater, CA

TA-W-57,611; Doane Pet Care Company, Inc., Hillburn Plant, Hillburn, NY

TA-W-57,624; Northwest Manufacturing Corp., Corry, PA

TA-W-57,638; Tarkett Wood, a div. of Tarkett, Tillar, AR

TA-W-57,689; Sony Electronics, Inc., Direct View-CRT Division, Mt. Pleasant, PA

TA-W-57,708; Milwaukee Sign Co., LLC, d/b/a Signstrut, Grafton, WI

TA-W-57,412; Reptron Electronics, Inc., Hibbing, MN

TA-W-57,545; Solvay Pharmaceuticals, Inc., Baudette, MN

TA-W-57,618; Albemarle Knitting Corp., Albemarle, NC

TA-W-57,619 & A, B, C; National Spinning Co., LLC, a subsidiary of National Spinning Co., Inc., Whiteville, NC, Beulaville, NC, Burlington, NC, Corporate Office, Washington, NC

TA-W-57,670; Henkel Corp., Henkel Technologies Division, Olean, NY

TA-W-57,863; Plymouth Printing Co., Inc., Winston-Salem, NC

TA-W-57,657; Midas International Corp., Muffler Corp. of America Division, Hartford Manufacturing Facility, Hartford, WI

The investigation revealed that criteria (a)(2)(A)(I.B.) (Sales or production, or both, did not decline) and (a)(2)(B)(II.B) (No shift in production to a foreign country) have not been met.

TA-W-57,721; American Video Glass Co., a div. of Sony Electronics, Inc., Mt. Pleasant, PA

TA-W-57,712; G&L Motion Control, Inc., a subsidiary of Danaher Corp., Fond du Lac, WI

The investigation revealed that criterion (a)(2)(A)(I.A) and (a)(2)(B)(II.A) (no employment decline) has not been met.

TA-W-57,632; Guilford Mills, Inc., Pine Grove, PA

TA-W-57,855; Tree Top, Inc., Milton-Freewater, OR

TA-W-57,667; Morrison Products, Inc., Tempe, AZ

TA-W-57,617; Gemtron Corp., Holland Div., a subsidiary of Schott Corp., Holland, MI

TA-W-57,847; Nidec America Corp., Norwood, MA

TA-W-57,641; One World Technologies, Inc., Formerly Ryobi Technologies, Anderson, SC

TA-W-57,616; Komex International, Inc., d/b/a Bubblegum, USA, Los Angeles, CA

TA-W-57,603; Cordis Corp., Miami Lakes, FL

TA-W-57,698; Action Staffing-Seneca Office, Workers at Westpoint Stevens, Currently Known as Westpoint Home, Bed Products Division, Clemson, SC

TA-W-57,895; JD Fine and Company, Concord, CA

The workers firm does not produce an article as required for certification under Section 222 of the Trade Act of 1974.

TA-W-57,785; Greenfield Montague Transit Area, Greenfield, MA

TA-W-57,784; Greenfield Inn, Greenfield, MA

TA-W-57,589; Tennessee Warehouse and Distribution, LLC, Morrison, TN

TA-W-57,758; Optek Technology, Carrollton, TX

TA-W-57,748; Sportrack Accessories, Port Huron, MI

TA-W-57,741; Globetrans Network, Inc., Staten Island, NY

TA-W-57,555; Apotex Corp., Subdivision of Apotex, Inc., Lincolnshire, IL

TA-W-57,650; Meromex USA, Inc., El Paso, TX

TA-W-57,781; Nu-Gro Technologies, Inc., Gloversville, NY

TA-W-57,651; Cerwin Vega, Inc., A Florida Corp., a div. of Stanton Magnetics, Inc., Chatsworth, CA

TA-W-57,783; Bricker's Restaurant, Greenfield, MA

TA-W-57,823; Ingram Micro, Inc., Williamsville, NY

TA-W-57,824; Hapag-Lloyd Container Line, Norfolk, VA

TA-W-57,677; Brackett Trucking Co., Inc., Bostic, NC

TA-W-57,841; Panasonic Services Company, Factory ServiCenter, A div. of Panasonic Corp. of North America, Langhorne, PA

TA-W-57,666 & A; Philips Semiconductors, Longmont Technology Center, Longmont, CO, Specifications Center, San Jose, CA

TA-W-57,800; Nuvo Network Corp., a subsidiary of Nuvo Network Management, Inc., Pennsauken, NJ

TA-W-57,811; Telemarketing Concepts, Call Center, Yorktown Heights, NY

The investigation revealed that criteria (a)(2)(A)(I.C.) (Increased imports and (a)(2)(B)(II.C) (has shifted production to a foreign country) have not been met.

TA-W-57,728; J.E. Morgan Knitting Mills (Sara Lee), Tamaqua, PA

TA-W-57,812; Sanford North America, Point Making Department, Santa Monica, CA

The investigation revealed that criteria (2) has not been met. The workers firm (or subdivision) is not a supplier or downstream producer to trade-affected companies.

None

Affirmative Determinations for Worker Adjustment Assistance

The following certifications have been issued; the date following the company name and location of each determination references the impact date for all workers of such determination.

The following certifications have been issued. The requirements of (a)(2)(A) (increased imports) of Section 222 have been met.

TA-W-57,724; Dan River, Inc., Danville, VA: August 21, 2005.

TA-W-57,630 & A; Regal Ware, Inc., Kewaskum Manufacturing Plant, Kewaskum, WI and West Bend Manufacturing Plant, West Bend, WI: July 31, 2005.

TA-W-57,629; Vivitone, Inc., Paterson, NJ: July 27, 2004.

TA-W-57,859; Beach and Summer Design, Huntington Park, CA: August 26, 2004.

TA-W-57,859; Industrial Distribution Group, working on-site at Oldham Saw Co., a subsidiary of Black and Decker, West Jefferson, NC: June 27, 2004.

TA-W-57,765; Metz Tool and Die, Inc., Rockford, IL: August 8, 2004.

TA-W-57,755; Johnson Textiles, Inc., Southern Phenix Textiles Div., Phenix City, AL: August 9, 2004.

TA-W-57,749 & A; Slater Screen Print Corp., Pawtucket, RI and Slater Dye Works, Inc., Pawtucket, RI: August 15, 2004.

TA-W-57,852; Flanders Industries, Inc., Fort Smith, AR: August 26, 2004.

TA-W-57,821; Union Stamping & Assembly, Inc., d/b/a Mayflower Vehicle Systems, South Charleston, WV: August 17, 2004.

TA-W-57,792; Kwan's Sewing, Inc., San Francisco, CA: July 25, 2004.

TA-W-57,762; Crotty Corporation, Celina Division, Celina, TN: August 13, 2004.

TA-W-57,679; Eastern Tool and Stamping Co., Inc., Saugus, MA: July 25, 2004.

TA-W-57,659; VF Intimates, LP, a div. of The VF Corp., McAllen, TX: August 1, 2004.

TA-W-57,653; Northwest Automatic Productions, Inc., Minneapolis, MN: August 1, 2004.

TA-W-57,614; Engineered Machined Products, Inc., Plant 1 and 2, Manufacturing Div., Escanaba, MI: July 13, 2004.

TA-W-57,602; Renco Finishing Corporation, Fairlawn, NJ: July 29, 2004.

TA-W-57,665; American Outpost, LLC, Zelienople, PA: July 25, 2004.

TA-W-57,816; Nidec America Corp., Manufacturing Div., a subsidiary of Nidec Corp-Japan, including on-site leased workers of Jaci Carroll Staffing and Alternative Employment, Inc., Torrington, CT: August 22, 2004.

TA-W-57,786; Laufen International, Inc., a subsidiary of Group Roca, Tulsa, OK: July 29, 2004.

TA-W-57,751; The Pulaski Rubber Co., Pulaski, TN: August 15, 2004.

TA-W-57,656; Sun's Manufacturing, Inc., Lansford Div., Lansford, PA: July 23, 2004.

TA-W-57,648; U.S. Textile Corp., Newland, NC: July 22, 2004.

TA-W-57,636; Delafoil Ohio, Inc., Perrysburg, OH: January 24, 2005.

TA-W-57,773; OWT Industries, Inc., Outdoor Products Div., including on-site leased workers of Staffmasters, USA, Inc., Pickens, SC: August 17, 2004.

TA-W-57,686; Raybestos Automotive Components, a subsidiary of Raytech Corporation, Sterling Heights, MI: August 2, 2004.

TA-W-57,647; PPG Fiber Glass Products, Shelby, NC: July 28, 2004.

TA-W-57,631 & A; Brodnax Mills, Inc., Brodnax, VA and Sales Office, New York, NY: June 29, 2004.

TA-W-57,627; Clearwater Loaders, Inc., leased on-site workers at Unifi-Kinston, LLC, formerly d/b/a Invista, S.A.R.L., a subsidiary of Koch Industries, formerly d/b/a Invista, Inc., a subsidiary of E.I. DuPont de Nemours & Company, Inc., Kinston, NC

TA-W-57,533; Atlas Wire and Cable Corporation, Montebello, CA: July 8, 2004.

TA-W-57,445; Liz Claiborne, Inc., Ellen Tracy Div., New York, NY: June 21, 2004.

TA-W-57,690; Keys Health & Fitness, L.P., including on-site leased workers of Advanced Temporaries, Tyler, TX: August 5, 2004.

TA-W-57,592; Anvil International, Inc., Columbia, PA: July 14, 2004.

TA-W-57,576; Meke, Inc., New Hollard, PA: July 17, 2004.

TA-W-57,562; Kraco Enterprises, Inc., Compton, CA: July 11, 2004.

TA-W-57,561; Concept Fabrics, Inc., Asheboro, NC: July 12, 2004.

TA-W-57,556; Webb Wheel Products, Inc., Aftermarket Division, Siloam Spring, AR: July 14, 2004.

TA-W-57,481; Crown City Plating, El Monte, CA: June 15, 2004.

TA-W-57,546 & A, B; Westpoint Stevens, Inc., Now Known as Westpoint Home, Inc., including on-site leased workers of Pro Resources, Middletown, IN, Anderson, IN and Daleville, IN: July 10, 2004.

TA-W-57,572; Wagner Castings Co., a/k/a Interment Decatur Foundry, Decatur, IL: July 18, 2004.

TA-W-57,571; Cap America, Fredericktown, MO: July 12, 2004.

TA-W-57,563; Addie Fashions, Inc., West Union, SC: July 7, 2004.

TA-W-57,702; Plastic Dress-Up Co., El Monte, CA: August 9, 2004.

TA-W-57,643; Madeleine Manufacturing, Inc., Union, SC: March 26, 2004.

TA-W-57,613; Advantek, Inc., a subsidiary of Siegel-Robert, Inc., Minnetonka, MN: July 22, 2004.

TA-W-57,547; Archway & Mothers Cookie Co., Red Bud, IL: June 30, 2004.

TA-W-57,655; Interforest Corp., Darlington Div., Darlington, PA: July 21, 2004.

TA-W-57,735; Kamashian Engineering, Inc., Metal Stamping and Assembly Department, Bellflower, CA: August 12, 2004.

TA-W-57,634; General Henry Biscuit, a div. of Archway & Mother's Cookie Co., Duquoin, IL: July 25, 2004.

TA-W-57,525; Guess?, Inc., Cutting Department, Los Angeles, CA: June 23, 2004.

TA-W-57,588; Benchmark Electronics, Inc., DATS Div., Loveland, CO: July 19, 2004.

The following certifications have been issued. The requirements of (a)(2)(B) (shift in production) of Section 222 have been met.

TA-W-57,352; Specialty Filaments, Inc., Burlington Div., Burlington, VT: May 23, 2004.

TA-W-57,726; General Electric, Consumer and Industrial Div., Tell City, IN: August 10, 2004.

TA-W-57,715; Sanmina-SCI Corp., Enterprise Computing and Storage Div., including leased workers of Aerotek Staffing Services and Remedy Staffing, Fountain, CO: August 9, 2004.

TA-W-57,692; Chicago Miniature Lighting, IT, Inc., Hackensack, NJ: August 5, 2004.

TA-W-57,699; Rockwell Collins, Airshow Systems Div., including leased workers of Volt Temporary Agency, Kirkland, WA: August 8, 2004.

TA-W-57,797; Southwire Company, Electrical Div., Long Beach, CA: August 11, 2004.

TA-W-57,685; Tiro Industries, LLC, including on-site leased workers of Excel Staffing, Fridley, MN: July 22, 2004.

TA-W-57,884 & A; General Electric, Components-Specialty Transformer Div., Fort Wayne, IN and Motors and Controls Div., Fort Wayne, IN: September 1, 2004.

TA-W-57,858 & A; International Legwear Group, Neuville Industries, Inc., including on-site leased workers from Catawba Staffing, Express and Accuforce, Hildebran, NC and including on-site leased workers from Optimum Staffing, Athens, TN: August 25, 2004.

TA-W-57,818; Trim Masters, Inc., including on-site leased workers of Nesco Resource, Kelly Services and Staffing Alternatives, Harrodsburg, KY: August 10, 2004.

TA-W-57,772; Bobs Candies, Inc., Div. of Farley's and Sathers Candy Co., Inc., including on-site leased workers of Kelly Services, Albany, GA: August 11, 2004.

TA-W-57,795; 3M Company, Fairmont, MN: August 18, 2004.

TA-W-57,678; Super Sack VA, Inc., a subsidiary of B.A.G. Corp., Manufacturing Div., Pennington Gap, VA: August 6, 2005.

TA-W-57,605; Ludlow Textiles Co., Inc., including on-site leased workers from Magellan, Ludlow, MA: July 21, 2004.

TA-W-57,731; Teepak Limited Liability Corp., Shirring Department, Danville Plant, Danville, IL: August 10, 2004.

TA-W-57,640; Molex, Inc., Tool Room/Build Group, Lisle, IL: July 28, 2004.

TA-W-57,779; Sonoco, Inc., Industrial Products Div., including leased workers of Adecco Staffing, Canandaigua, NY: August 17, 2004.

TA-W-57,764; Merrimac Paper Co., Lawrence, MA: August 8, 2004.

TA-W-57,752; Nestle USA, St. Louis, MO: August 12, 2004.

TA-W-57,717; Hooker Furniture Co., Pleasant Garden Plant, Pleasant Garden, NC: August 8, 2004.

TA-W-57,729; Teleflex Medical, including leased workers of Adecco, Research Triangle Park, NC: August 12, 2004.

TA-W-57,705; Components Manufacturing Co., Inc., Air Conditioning Div., a subsidiary of Rheem Manufacturing Co., including on-site leased workers of Kelly Services and Spherion, Trenton, SC: August 1, 2004.

TA-W-57,664; Emerson Flow Controls, St. Louis, MO: July 9, 2005.

TA-W-57,606; International Paper, Containerboard Div., Ft. Madison, IA: July 22, 2004.

TA-W-57,668; Culp, Inc., Artee-Shelby Plant, Shelby, NC: August 2, 2004.

TA-W-57,448; Mammoth, Inc., Chaska, MN: June 24, 2004.

TA-W-57,768; Younger Manufacturing Co., Torrance, CA: August 12, 2004.

TA-W-57,732; Microtek Medical, a subsidiary of Microtek Medical Holdings, Inc., Columbus, MS: August 12, 2004.

TA-W-57,672; Cambridge-Lee Industries, LLC, Reading Tube Div., including on-site leased workers of Gage Personnel, Contemporary Personnel and Advance Personnel, Reading, PA: August 4, 2004.

TA-W-57,734; Focus Enhancements, Inc., Campbell, CA: August 5, 2004.

TA-W-57,551; Creo Americas, Inc., Rosemont, IL: July 15, 2004.

TA-W-57,777; Gemtron Corporation, a subsidiary of Schott Corporation, Sweetwater, TN: August 16, 2004.

TA-W-57,714; U.S. Button Corp., a subsidiary of Emsig Manufacturing, Putnam, CT: August 8, 2004.

TA-W-57,684; Rittal Corporation, a subsidiary of Rittal-Werk, Springfield, OH: July 27, 2004.

The following certification has been issued. The requirement of downstream producer to a trade certified firm has been met.

None

Negative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

In the following cases, it has been determined that the requirements of Section 246(a)3)ii) have not been met for the reasons specified.

The Department as determined that criterion (2) of Section 246 has not been met. Workers at the firm possess skills that are easily transferable.

TA-W-53,321; Charter Fabrics, Inc., New York, NY

TA-W-57,525; Guess?, Inc., Cutting Department, Los Angeles, CA: June 23, 2004.

TA-W-57,735; Kamashian Engineering, Inc., Metal Stamping and Assembly Department, Bellflower, CA

TA-W-57,655; Interforest Corp., Darlington Div., Darlington, PA

TA-W-57,610; Gerdau Ameristeel, Beaumont Mill Div., workers' wages were reported under Cargill, Inc., Beaumont, TX

TA-W-57,694; Cequent Consumer Products, a Subsidiary of Trimas Corp., Sheffield, PA

TA-W-57,534; RAM Industries, LLC, Harnessing Department, including on-site leased workers of Gage Personnel Services, Contemporary @ Work Personnel Services, and Manpower Temporary Services, Leesport, PA

TA-W-57,777; Gemtron Corporation, a subsidiary of Schott Corp., Sweetwater, TN

TA-W-57,714; U.S. Button Corp., a subsidiary of Emsig Manufacturing, Putnam, CT

TA-W-57,684; Rittal Corp., a subsidiary of Rittal-Werk, Springfield, OH

TA-W-57,448; Mammoth, Inc., Chaska, MN

TA-W-57,768; Younger Manufacturing Co., Torrance, CA

TA-W-57,672; Cambridge-Lee Industries, LLC, Reading Tube Division, including on-site leased workers of Gage Personnel, Contemporary, Personnel and Advance Personnel, Reading, PA

TA-W-57,732; Microtek Medical, a subsidiary of Microtek Medical Holdings, Inc., Columbus, MS

The Department as determined that criterion (1) of Section 246 has not been met. Workers at the firm are 50 years of age or older.

TA-W-57,588; Benchmark Electronics, Inc., DATS Div., Loveland, CO

TA-W-57,634; General Henry Biscuit, a div. of Archway & Mother's Cookie Co., Duquoin, IL

TA-W-57,547; Archway & Mothers Cookie Company, Red Bud, IL

Since the workers are denied eligibility to apply for TAA, the workers cannot be certified eligible for ATAA.

TA-W-57,522; ExxonMobil Chemical Co., Films Div., a div. of Exxon Mobil Corp., Stratford, CT

TA-W-57,553; Merix Corp., Forest Grove, OR

TA-W-57,569; Tescom Corp., Elk River, MN

TA-W-57,573; Xiotech Corp., Eden Prairie, MN

TA-W-57,542; Cray, Inc., Manufacturing Div., Chippewa Falls, WI

TA-W-57,733; HBC Barge, LLC, Brownsville, PA

TA-W-57,597; T.S. Manufacturing, Inc., a subsidiary of Olson Technology, Inc., Atwater, CA

TA-W-57,611; Doane Pet Care Co., Inc., Hillburn Plant, Hillburn, NY

TA-W-57,624; Northwest Manufacturing Corp., Corry, PA

TA-W-57,638; Tarkett Wood, a div. of Tarkett, Tillar, AR

TA-W-57,689; Sony Electronics, Inc., Direst View-CRT Div., Mt. Pleasant, PA

TA-W-57,708; Milwaukee Sign Co., LLC, d/b/a Signstrut, Grafton, WI

TA-W-57,412; Reptron Electronics, Inc., Hibbing MN

TA-W-57,545; Solvay Pharmaceuticals, Inc., Baudette, MN

TA-W-57,618; Albemarle Knitting Corp., Albemarle, NC

TA-W-57,619 & A, B, C; National Spinning Co., LLC, a subsidiary of National Spinning Co., Inc., Whiteville, NC, Beulaville, NC, Burlington, NC and Corporate Office, Washington, NC

TA-W-57,670; Henkel Corp., Henkel Technologies Div., Olean, NY

TA-W-57,863; Plymouth Printing Co., Inc., Winston-Salem, NC

TA-W-57,657; Midas International Corp., Muffler Corporation of America Div., Hartford Manufacturing Facility, Hartford, WI

TA-W-57,632; Guilford Mills, Inc., Pine Grove, PA

TA-W-57,712; G&L Motion Control, Inc., a subsidiary of Danaher Corp., Fond du Lac, WI

TA-W-57,855; TreeTop, Inc., Milton-Freewater, OR

TA-W-57,667; Morrison Products, Inc., Tempe, AZ

TA-W-57,617; Gemtron Corp., Holland Div., a subsidiary of Schott Corp., Holland, MI

TA-W-57,847; Nidec America Corp., Norwood, MA

TA-W-57,641; One World Technologies, Inc., Formerly Ryobi Technologies, Anderson, SC

TA-W-57,616; Komex International, Inc., d/b/a Bubblegum, USA, Los Angeles, CA

TA-W-57,698; Action Staffing-Seneca Office, Workers at Westpoint Stevens, Currently Known as Westpoint Home, Bed Products Div., Clemson, SC

TA-W-57,603; Cordis Corp., Miami Lakes, FL

TA-W-57,741; Globetrans Network, Inc., Staten Island, NY

TA-W-57,555; Apotex Corp., subdivision of Apotex, Inc., Lincolnshire, IL

TA-W-57,650; Meromex USA, Inc., El Paso, TX

TA-W-57,781; Nu-Gro Technologies, Inc., Gloversville, NY

TA-W-57,651; Cerwin Vega, Inc. a Florida Corp., a div. of Stanton Magnetics, Inc., Chatsworth, CA

TA-W-57,783; Bricker's Restaurant, Greenfield, MA

TA-W-57,823; Ingram Micro, Inc., Williamsville, NY

TA-W-57,677; Brackett Trucking Co., Inc., Bostic, NC

TA-W-57,841; Panasonic Services Co., Factory ServiCenter, a div. of Panasonic Corp., of North America, Langhorne, PA

TA-W-57,666 & A; Philips Semiconductors, Longmont Technology Center, Longmont, CO and Specifications Center,

TA-W-57,800; Nuvo Network Corporation, a subsidiary of Nuvo Network Management, Inc., Pennsauken, NJ

TA-W-57,811; Telemarketing Concepts, Call Center, Yorktown Heights, NY

TA-W-57,728; J.E. Morgan Knitting Mills (Sara Lee), Tamaqua, PA

TA-W-57,812; Sanford North America, Point Making Department, Santa Monica, CA

The Department has determined that criterion (3) of Section 246 has not been met. Competition conditions within the workers' industry are not adverse.

TA-W-57,551; Creo Americas, Inc., Rosemont, IL

TA-W-57,734; Focus Enhancements, Inc., Campbell, CA

Affirmative Determinations for Alternative Trade Ajdustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-57,724; Dan River, Inc., Danville, VA: August 21, 2005.

TA-W-57,630 & A; Regal Ware, Inc., Kewaskum Manufacturing Plant, Kewaskum, WI and West Bend Manufacturing Plant, West Bend, WI: July 31, 2005.

TA-W-57,629; Vivitone, Inc., Paterson, NJ: July 27, 2004.

TA-W-57,859; Beach and Summer Design, Huntington Park, CA: August 26, 2004.

TA-W-57,859; Industrial Distribution Group, working on-site at Oldham Saw Co., a subsidiary of Black and Decker, West Jefferson, NC: June 27, 2004.

TA-W-57,765; Metz Tool and Die, Inc., Rockford, IL: August 8, 2004.

TA-W-57,755; Johnson Textiles, Inc., Southern Phenix Textiles Div., Phenix City, AL: August 9, 2004.

TA-W-57,749 & A; Slater Screen Print Corp., Pawtucket, RI and Slater Dye Works, Inc., Pawtucket, RI: August 15, 2004.

TA-W-57,852; Flanders Industries, Inc., Fort Smith, AR: August 26, 2004.

TA-W-57,821; Union Stamping & Assembly, Inc., d/b/a Mayflower Vehicle Systems, South Charleston, WV: August 17, 2004.

TA-W-57,792; Kwan's Sewing, Inc., San Francisco, CA: July 25, 2004.

TA-W-57,762; Crotty Corporation, Celina Division, Celina, TN: August 13, 2004.

TA-W-57,679; Eastern Tool and Stamping Co., Inc., Saugus, MA: July 25, 2004.

TA-W-57,659; VF Intimates, LP, a div. of The VF Corp., McAllen, TX: August 1, 2004.

TA-W-57,653; Northwest Automatic Productions, Inc., Minneapolis, MN: August 1, 2004.

TA-W-57,614; Engineered Machined Products, Inc., Plant 1 and 2, Manufacturing Div., Escanaba, MI: July 13, 2004.

TA-W-57,602; Renco Finishing Corporation, Fairlawn, NJ: July 29, 2004.

TA-W-57,665; American Outpost, LLC, Zelienople, PA: July 25, 2004.

TA-W-57,816; Nidec America Corp., Manufacturing Div., a subsidiary of Nidec Corp-Japan, including on-site leased workers of Jaci Carroll Staffing and Alternative Employment, Inc., Torrington, CT: August 22, 2004.

TA-W-57,786; Laufen International, Inc., a subsidiary of Group Roca, Tulsa, OK: July 29, 2004.

TA-W-57,751; The Pulaski Rubber Co., Pulaski, TN: August 15, 2004.

TA-W-57,656; Sun's Manufacturing, Inc., Lansford Div., Lansford, PA: July 23, 2004.

TA-W-57,648; U.S. Textile Corp., Newland, NC: July 22, 2004.

TA-W-57,636; Delafoil Ohio, Inc., Perrysburg, OH: January 24, 2005.

TA-W-57,773; OWT Industries, Inc., Outdoor Products Div., including on-site leased workers of Staffmasters, USA, Inc., Pickens, SC: August 17, 2004.

TA-W-57,686; Raybestos Automotive Components, a subsidiary of Raytech Corporation, Sterling Heights, MI: August 2, 2004.

TA-W-57,647; PPG Fiber Glass Products, Shelby, NC: July 28, 2004.

TA-W-57,631 & A; Brodnax Mills, Inc., Brodnax, VA and Sales Office, New York, NY: June 29, 2004.

TA-W-57,627; Clearwater Loaders, Inc., leased on-site workers at Unifi-Kinston, LLC, formerly d/b/a Invista, S.A.R.L., a subsidiary of Koch Industries, formerly d/b/a Invista, Inc., a subsidiary of E.I. DuPont de Nemours & Company, Inc., Kinston, NC

TA-W-57,533; Atlas Wire and Cable Corporation, Montebello, CA: July 8, 2004.

TA-W-57,445; Liz Claiborne, Inc., Ellen Tracy Div., New York, NY: June 21, 2004.

TA-W-57,690; Keys Health & Fitness, L.P., including on-site leased workers of Advanced Temporaries, Tyler, TX: August 5, 2004.

TA-W-57,592; Anvil International, Inc., Columbia, PA: July 14, 2004.

TA-W-57,576; Meke, Inc., New Hollard, PA: July 17, 2004.

TA-W-57,562; Kraco Enterprises, Inc., Compton, CA: July 11, 2004.

TA-W-57,561; Concept Fabrics, Inc., Asheboro, NC: July 12, 2004.

TA-W-57,556; Webb Wheel Products, Inc., Aftermarket Division, Siloam Spring, AR: July 14, 2004.

TA-W-57,481; Crown City Plating, El Monte, CA: June 15, 2004.

TA-W-57,546 & A, B; Westpoint Stevens, Inc., Now Known as Westpoint Home, Inc., including on-site leased workers of Pro Resources, Middletown, IN, Anderson, IN and Daleville, IN: July 10, 2004.

TA-W-57,572; Wagner Castings Co., a/k/a Interment Decatur Foundry, Decatur, IL: July 18, 2004.

TA-W-57,571; Cap America, Fredericktown, MO: July 12, 2004.

TA-W-57,563; Addie Fashions, Inc., West Union, SC: July 7, 2004.

TA-W-57,702; Plastic Dress-Up Co., El Monte, CA: August 9, 2004.

TA-W-57,643; Madeleine Manufacturing, Inc., Union, SC: March 26, 2004.

TA-W-57,613; Advantek, Inc., a subsidiary of Siegel-Robert, Inc., Minnetonka, MN: July 22, 2004.

TA-W-57,352; Specialty Filaments, Inc., Burlington Div., Burlington, VT: May 23, 2004.

TA-W-57,726; General Electric, Consumer and Industrial Div., Tell City, IN: August 10, 2004.

TA-W-57,715; Sanmina-SCI Corp., Enterprise Computing and Storage Div., including leased workers of Aerotek Staffing Services and Remedy Staffing, Fountain, CO: August 9, 2004.

TA-W-57,692; Chicago Miniature Lighting, IT, Inc., Hackensack, NJ: August 5, 2004.

TA-W-57,699; Rockwell Collins, Airshow Systems Div., including leased workers of Volt Temporary Agency, Kirkland, WA: August 8, 2004.

TA-W-57,797; Southwire Company, Electrical Div., Long Beach, CA: August 11, 2004.

TA-W-57,685; Tiro Industries, LLC, including on-site leased workers of Excel Staffing, Fridley, MN: July 22, 2004.

TA-W-57,884 & A; General Electric, Components-Specialty Transformer Div., Fort Wayne, IN and Motors and Controls Div., Fort Wayne, IN: September 1, 2004.

TA-W-57,858 & A; International Legwear Group, Neuville Industries, Inc., including on-site leased workers from Catawba Staffing, Express and Accuforce, Hildebran, NC and including on-site leased workers from Optimum Staffing, Athens, TN: August 25, 2004.

TA-W-57,818; Trim Masters, Inc., including on-site leased workers of Nesco Resource, Kelly Services and Staffing Alternatives, Harrodsburg, KY: August 10, 2004.

TA-W-57,772; Bobs Candies, Inc., Div. of Farley's and Sathers Candy Co., Inc., including on-site leased workers of Kelly Services, Albany, GA: August 11, 2004.

TA-W-57,795; 3M Company, Fairmont, MN: August 18, 2004.

TA-W-57,678; Super Sack VA, Inc., a subsidiary of B.A.G. Corp., Manufacturing Div., Pennington Gap, VA: August 6, 2005.

TA-W-57,605; Ludlow Textiles Co., Inc., including on-site leased workers from Magellan, Ludlow, MA: July 21, 2004.

TA-W-57,731; Teepak Limited Liability Corp., Shirring Department, Danville Plant, Danville, IL: August 10, 2004.

TA-W-57,640; Molex, Inc., Tool Room/Build Group, Lisle, IL: July 28, 2004.

TA-W-57,779; Sonoco, Inc., Industrial Products Div., including leased workers of Adecco Staffing, Canandaigua, NY: August 17, 2004.

TA-W-57,764; Merrimac Paper Co., Lawrence, MA: August 8, 2004.

TA-W-57,752; Nestle USA, St. Louis, MO: August 12, 2004.

TA-W-57,717; Hooker Furniture Co., Pleasant Garden Plant, Pleasant Garden, NC: August 8, 2004.

TA-W-57,729; Teleflex Medical, including leased workers of Adecco, Research Triangle Park, NC: August 12, 2004.

TA-W-57,705; Components Manufacturing Co., Inc., Air Conditioning Div., a subsidiary of Rheem Manufacturing Co., including on-site leased workers of Kelly Services and Spherion, Trenton, SC: August 1, 2004.

TA-W-57,664; Emerson Flow Controls, St. Louis, MO: July 9, 2005.

TA-W-57,606; International Paper, Containerboard Div., Ft. Madison, IA: July 22, 2004.

TA-W-57,668; Culp, Inc., Artee-Shelby Plant, Shelby, NC: August 2, 2004.

I hereby certify that the aforementioned determinations were issued during the month of September 2005. Copies of These determinations are available for inspection in Room C-5311, U.S. Department of Labor, 200 Constitution Avenue, NW., Washington, DC 20210 during normal business hours or will be mailed to persons who write to the above address.

Dated: Date: September 27, 2005.
Timothy Sullivan,
Director, Division of Trade Adjustment Assistance.

[FR Doc. E5-5478 Filed 10-5-05; 8:45 am]

BILLING CODE 4510-30-P